DEPARTMENT OF HOUSING AND URBAN DEVELOPMENT

[Docket No. FR-5997-N-83]

30-Day Notice of Proposed Information Collection: Jobs Plus Pilot Program

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: February 9, 2018.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov.

FOR FURTHER INFORMATION CONTACT: Colette Pollard, Reports Management Officer, QMAC, Department of Housing and Urban Development, 451 7th Street SW, Washington, DC 20410; email Colette.Pollard@hud.gov, or telephone 202-402-3400. This is not a toll-free number. Person with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on October 11, 2017 at 82 FR 47240.

A. Overview of Information Collection

Title of Information Collection: Jobs Plus Pilot Program.

OMB Approval Number: 2577-0281.

Type of Request: Reinstatement, with change, of a previously approved collection.

Form Number: SF-424, SF-LLL, HUD-2880, HUD-2993, HUD-50144, HUD 96011.

Description of the Need for the Information and Proposed Use: The Jobs Plus Pilot Program Information Collection represents a revision to an existing information request. The OMB approval number for this collection is 2577-0281. The information provided by the eligible applicants will be reviewed and evaluated by HUD. The information to be collected by HUD will be used to preliminarily rate applications, to determine eligibility for the Jobs Plus Grant Competition and to establish grant amounts. The Jobs Plus Pilot Grant Competition Application will be used to determine eligibility and funding for recipients. Respondents of this information collection will be public housing agencies. Although OMB approved Forms are used for information collection, applicants will provide quantitative and qualitative data as well as narrative information for evaluation.

Information collection | Number of respondents | Responses per year | Total annual responses | Estimated burden hours per response | Total hours | Hourly cost | Annual cost
Grant Applications
SF-424 Application for Federal Assistance (2501-0017) | 75 | 1 | 75 | 0.75 | 56.25 | $42 | $2,365
SF-LLL—Lobbying (0348-0046) | 75 | 1 | 75 | 0.17 | 12.75 | 42 | 536
HUD-2880 Applicant Disclosure (2510-0011) | 75 | 1 | 75 | 0.17 | 12.75 | 42 | 536
HUD-2991 Certification of Consistency with Consolidated Plan (2506-0112) | 75 | 1 | 75 | 0.25 | 18.75 | 42 | 788
HUD-2993 Acknowledgement of Application Receipt (2577-0259) | 75 | 1 | 75 | 0.5 | 37.5 | 42 | 1,577
Map of Proposed Site | 75 | 1 | 75 | 0.25 | 18.75 | 42 | 788
Signed MOU between PHA and WIB | 75 | 1 | 75 | 2 | 150 | 42 | 6,308
Match/Leverage Commitment Letters | 75 | 1 | 75 | 14 | 1,050 | 42 | 44,153
Rating Factor 1—Capacity | 75 | 1 | 75 | 10 | 750 | 42 | 31,538
Rating Factor 2—Need | 75 | 1 | 75 | 8 | 600 | 42 | 25,230
Rating Factor 3—Soundness of Approach | 75 | 1 | 75 | 12 | 900 | 42 | 37,845
Applicant's Detailed Program Budget | 75 | 1 | 75 | 3.2 | 240 | 42 | 10,092
Form HUD-50144—Summary Jobs Plus Budget | 75 | 1 | 75 | 2 | 150 | 42 | 6,308
Narrative to Program Budget | 75 | 1 | 75 | 4 | 300 | 42 | 12,615
Rating Factor 4—Match/Leveraging Table | 75 | 1 | 75 | 2 | 150 | 42 | 6,308
Rating Factor 5—Bonus Points Documentation (HUD-2995) | 75 | 1 | 75 | 0.5 | 37.5 | 42 | 1,577
Sub-Total Application Submission w/Narratives | 75 | 1 | 75 | 59.79 | 4,484.25 | 42 | 188,562.71
Post Award Submissions
Code of Conduct (if not on HUD website, if recently updated, if not previously submitted) | 36 | 1 | 36 | 1 | 36 | 42 | 1,514
Sub-Total—Post-Award | 36 | 1 | 36 | 1 | 36 | 42 | 1,513.80
Grant Management
Quarterly Performance Reports | 36 | 4 | 144 | 8 | 1,152 | 42 | 48,442
Annual Performance Reports | 36 | 4 | 144 | 6 | 864 | 42 | 36,331
Workplan Submission | 36 | 1 | 36 | 10 | 360 | 42 | 15,138
Federal Financial Report (Form SF-425) | 36 | 1 | 36 | 2 | 72 | 42 | 3,028
Final Financial Status Report (Form SF-269-A) | 36 | 1 | 36 | 4 | 144 | 42 | 6,055
Sub-Total—Grant Management | 36 | 1 | 36 | 24 | 2,592 | 42 | 108,993.60
Program Monitoring
Monitoring and Reporting | 36 | 1 | 36 | 10 | 10 | 42 | 421
Sub-Total—Monitoring | 36 | 1 | 36 | 10 | 360 | 42 | 15,138.00
Grand Totals |  |  |  |  | 7,472 | 42 | 314,208
Note: The estimated hourly cost, applied when the burden cost relates to a PHA, is an estimated median hourly salary of a PHA Project Manager or other professional/managerial staff preparing grant applications.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses.

HUD encourages interested parties to submit comment in response to these questions.

Authority: Section 3507 of the Paperwork Reduction Act of 1995, 44 U.S.C. Chapter 35.

Dated: December 19, 2017.
Colette Pollard,
Department Reports Management Officer, Office of the Chief Information Officer.

[FR Doc. 2018-00216 Filed 1-9-18; 8:45 am]

BILLING CODE 4210-67-P